ENVIRONMENTAL PROTECTION AGENCY

[OPP-2004-0015; FRL-7340-1]

Dimethoate; Use Cancellation Order

AGENCY: Environmental Protection Agency (EPA).

ACTION: Notice.

SUMMARY: This notice announces EPA's cancellation order, as requested the registrants, for certain uses associated with the manufacturing-use registrations for products containing dimethoate (O,O-Dimethy S-((methylcarbamoyl)methyl phosphodithioate), pursuant to section 6(f) of the Federal Insecticide, Fungicide, and Rodenticide Act (FIFRA). This order follows up a September 10, 2003 Notice of receipt of requests from the registrants for cancellation of use on grapes, apples, head lettuce, spinach, chard, broccoli raab, fennel, tomatillo, lespedeza and trefoil on all technical registrations. The cancellations are effective as of the date of this notice. The registrants are permitted to sell or distribute existing stocks for 1-year after the effective date of this cancellation order. Other persons are permitted to use existing stocks only to produce products that are not labeled for the above uses.

DATES: This order is effective January 28, 2004.

FOR FURTHER INFORMATION CONTACT: Patrick Dobak, Special Review and Reregistration Division (7508C), Office of Pesticide Programs, Environmental Protection Agency, 1200 Pennsylvania Ave., NW., Washington, DC 20460-0001; telephone number: (703) 308-8180; e-mail address: dobak.pat@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0263. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.A.1. Once in the system, select “search,” then key in the appropriate docket ID number.

II. What Action is the Agency Taking?

This notice announces cancellation, as requested by the dimethoate technical registrants, of the following crop uses from all dimethoate technical products registered under section 3 of FIFRA: Apples, grapes, spinach, head lettuce, chard, broccoli raab, fennel, tomatillo, lespedeza and trefoil.

A. Requests for Voluntary Cancellations

The manufacturing-use product registrations for which cancellation was requested are identified below in Tables 1 and 2. The Agency is affording the 1-year period from this cancellation date to allow registrants to exhaust existing stocks of products with labels that still include the uses canceled in this notice. The Agency reserves the right to propose shorter existing stocks time periods for dimethoate products in future Federal Register Notices and to include end-use products as well.

Table 1.—Manufacturing-Use Products Subject to Cancellation of Certain Uses
Company Name | Product Name | Product Registration Number
Cheminova | Chemethoate Technical | 4787-7
Drexel | Drexel Dimethoate Technical | 19713-209 and 19713-525
Gowan | Gowan Dimethoate Technical | 10163-211
Micro Flo | Dimethoate Technical | 51036-279

Table 2 of this unit includes the name and product for the registrant that requested cancellation of their technical product altogether:

Table 2.—Technical Product Subject to Cancellation
Company Name | Product Name | Product Number
BASF Corporation | Perfekthion Manufacturers' Concentrate | 7969-32

BASF is continuing to support their dimethoate end-use products.

B. Comments Received on Basis for this Action

In the notice of receipt of requests for voluntary cancellation (68 FR 53371, September 10, 2003) (FRL-7321-2), the Agency stated that the dimethoate uses subject to the requests for cancellation contributed significantly to dietary risk, and that cancellation was necessary in order to address dietary risk from dimethoate. The Agency would like to clarify that these statements are the Agency's, and that the registrants' state that their requests for voluntary cancellation were made as business decisions and did not acknowledge any dietary risks for dimethoate.

III. Cancellation Order

Pursuant to section 6(f) of FIFRA, EPA hereby approves the requested cancellations of the dimethoate uses on apples, grapes, spinach, head lettuce, chard, broccoli raab, fennel, tomatillo, lespedeza and trefoil for the product registrations identified in Table 1 of Unit II.A. In addition, also pursuant to section 6(f), EPA approves the requested cancellation of the dimethoate manufacturing-use product registration identified in Table 2 of Unit II.A. Any distribution, sale, or use of existing stocks of the products identified in Tables 1 and 2 in a manner inconsistent with any of the Provisions for Disposition of Existing Stocks set forth below in Unit V. will be considered a violation of FIFRA.

EPA is not at this time proposing to revoke existing tolerances issued pursuant to the Federal Food, Drug, and Cosmetic Act for residues of dimethoate in or on apples, grapes, spinach, head lettuce, chard, broccoli raab, fennel, tomatillo, lespedeza, and trefoil. This is because registrations authorizing such uses are still in effect for certain end use products containing dimethoate.

IV. What is the Agency's Authority for Taking this Action?

Section 6(f)(1) of FIFRA provides that a registrant of a pesticide product may at any time request that any of its pesticide registrations be canceled. FIFRA further provides that, before acting on the request, EPA must publish a notice of receipt of any such request in the Federal Register. The Administrator may approve such a request after a public comment period. Notice of receipt of the cancellation requests was published on September 10, 2003 (68 FR 53371). The registrants have waived the 180-day comment period, and the 30-day comment period provided in section 6(f)(1)(B) has ended.

V. Provisions for Disposition of Existing Stocks

For purposes of this cancellation order, the term “existing stocks” is defined, pursuant to EPA's existing stocks policy (56 FR 29362, June 26, 1991), as those stocks of registered pesticide products which are currently in the United States and which have been packaged, labeled, and released for shipment prior to the effective date of the cancellation action. See 56 FR 29362 (June 26, 1991). The existing stocks provisions of this cancellation order are as follows:

1. Distribution or sale. It is unlawful for any person to distribute or sell existing stocks of any product identified in Table 1 that is labeled for use on apples, grapes, spinach, head lettuce, chard, broccoli raab, fennel, tomatillo, lespedeza and trefoil, or any product identified in Table 2, except:

i. Registrants identified in Tables 1 and 2 may sell and distribute existing stocks of their own products until January 28, 2005.

ii. Any person may ship such existing stocks for the purpose of export consistent with FIFRA section 17 or for proper disposal in accordance with applicable law.

2. Use for producing other products. It is unlawful for any person to use existing stocks of any product identified in Table 1 or 2 to produce any product labeled for use on apples, grapes, spinach, head lettuce, chard, broccoli raab, fennel, tomatillo, lespedeza or trefoil. Existing stocks of products identified in Tables 1 and 2 may be used to produce products that are not labeled for use on apples, grapes, spinach, head lettuce, chard, broccoli raab, fennel, tomatillo, lespedeza or trefoil.

List of Subjects

Environmental protection, Pesticides and pests.

Dated: January 8, 2004.
Debra Edwards,
Director, Special Review and Reregistration Division, Office of Pesticide Programs.

[FR Doc. 04-1824 Filed 1-27-04; 8:45 am]

BILLING CODE 6560-50-S